DEPARTMENT OF TRANSPORTATION

Federal Aviation Administration

14 CFR Part 13

Rules of Practice in FAA Civil Penalty Actions

AGENCY: Federal Aviation Administration (FAA), DOT.

ACTION: Final rule; technical amendment.

SUMMARY: The FAA amended the procedural regulations governing the assessment of civil penalties against persons other than individuals acting as pilots, flight engineers, mechanics or repairmen in a notice published in the Federal Register on February 18, 2005. We explained in the preamble of that notice that we were amending the procedural rules to provide the FAA Hearing Docket's new address and new instructions on filing of documents. We inadvertently failed to amend the rule about filing an appeal, to include the new address informtion. We are now making that inadvertently omitted amendment.

DATES: This rule is effective on March 21, 2005.

FOR FURTHER INFORMATION CONTACT: Vicki Leemon, Office of the Chief Counsel, Adjudication Branch, 800 Independence Avenue, SW., Washington, DC 20591; telephone 202/385-8227.

SUPPLEMENTARY INFORMATION:

Background

The Administrator may impose a civil penalty against a person other than an individual acting as a pilot, flight engineer, mechanic, or repairman, after notice and an opportunity for a hearing on the record, for violations cited in 49 U.S.C. 46301(d)(2) or 47531. 49 U.S.C. 46301(d)(7)(A) and 47531. These violations, in general, involve aviation safety issues. Also, under 49 U.S.C. 5123 and 49 CFR 1.47(k), the Administrator may, after notice and an opportunity for a hearing, assess a civil penalty against any person who knowingly violates the Federal hazardous materials transportation law, 49 U.S.C. chapter 51, or any of its implementing regulations. The rules governing proceedings in these civil penalty cases are set forth in 14 CFR 13.16 and 14 CFR part 13, subpart G. We recently amended those rules to, among other things, provide the new address of the FAA Hearing Docket. 70 FR 8236, February 18, 2005. As we explained in the February 18, 2005, notice, the FAA Hearing Docket is now located in Room 2014 of the Wilbur Wright Building, 600 Independence Avenue, SW., Washington, DC 20591. Anyone hand-delivering a document for filing should go to the Wilbur Wright Building at the above address. Packages sent by expedited courier to the Hearing Docket should be addressed as follows: Hearing Docket, Federal Aviation Administration, 600 Independence Avenue, SW., Wilbur Wright Building—Room 2014, Washington, DC 20591; Att: Hearing Docket Clerk, AGC-430.

As explained further in the February 18, 2005, notice, all envelopes and packages sent by U.S. Mail to individuals in the Wilbur Wright Building are processed by the FAA Headquarters' mail room staff located at 800 Independence Avenue, SW., Washington, DC 20591. Consequently, anyone using U.S. Mail to file a document should use the following address: Hearing Docket, Federal Aviation Administration, 800 Independence Avenue, SW., Washington, DC 20591; Att: Hearing Docket Clerk, AGC-430, Wilbur Wright Building—Room 2014.

We explained in the February 18, 2005, notice that we were revising several sections of 14 CFR part 13, subpart G—including 14 CFR 13.233—to include this new information. However, we failed to include the actual revision in the notice. This technical amendment is intended to correct that omission from the previous revision.

Procedural Matters

In general, under the APA, 5 U.S.C. 533, agencies must publish regulations for public comment and give the public at least 30 days notice before adopting regulations. There is an exception to these requirements if the agency for good cause finds that notice and public procedure are impracticable, unnecessary, or contrary to the public interest. In this case, the FAA finds that notice and comment requirements are unnecessary due to the administrative nature of the changes. It is in the public interest that the revision to 14 CFR 13.233 takes effect promptly so that anyone appealing from an administrative law judge's initial decision or order knows the correct address to use for the Hearing Docket. This revision was inadvertently omitted during the prevision revision. The amendments set forth in this notice do not affect the rights or duties of any regulated entity.

List of Subjects in 14 CFR Part 13

Administrative practice and procedure, Air transportation, Aviation safety, Hazardous materials transportation, Investigations, Law enforcement, Penalties.

The Amendments

Accordingly, the Federal Aviation Administration amends part 13 of title 14, Code of Federal Regulations as follows:

PART 13—INVESTIGATIVE AND ENFORCEMENT PROCEDURES

1. The authority citation for part 13 continues to read as follows:

Authority: 18 U.S.C. 6002; 28 U.S.C. 2461 (note); 49 U.S.C. 106(g), 5121-5124, 40113-40114, 44103-44106, 44702-44703, 44709-44710, 44713, 46101-46110, 46301-46316, 46318, 46501-46502, 46504-46507, 47106, 47111, 47112, 47122, 47306, 47531-47532; 49 CFR 1.47.

2. Amend § 13.233 by revising the second sentence of paragraph (a) to read as follows:

§ 13.233 Appeal from initial decision.

(a) * * * A party must file the notice of appeal in the FAA Hearing Docket using the appropriate address listed in § 13.210(a). * * *

* * * * *

Issued in Washington, DC on March 15, 2005.
Rebecca MacPherson,
Assistant Chief Counsel for Regulations.

[FR Doc. 05-5439 Filed 3-18-05; 8:45 am]

BILLING CODE 4910-13-M